Title 3—

The President

Memorandum of April 17, 2006

Designation of Officers of the Social Security Administration

Memorandum for the Commissioner of Social Security

By the authority vested in me as President under the Constitution and the laws of the United States of America, including the Federal Vacancies Reform Act of 1998, 5 U.S.C. 3345 et seq., I hereby order that:

Section 1. Order of Succession.

During any period when both the Commissioner of Social Security (Commissioner) and the Deputy Commissioner of Social Security (Deputy Commissioner) have died, resigned, or otherwise become unable to perform the functions and duties of the office of Commissioner, the following officers of the Social Security Administration, in the order listed, shall perform the functions and duties of the office of Commissioner, if they are eligible to act as Commissioner under the provisions of the Federal Vacancies Reform Act of 1998, until such time as the Commissioner or Deputy Commissioner is able to perform the functions and duties of the office of Commissioner:

Chief of Staff;

Deputy Commissioner for Operations;

Regional Commissioner, Philadelphia; and

Regional Commissioner, Dallas.

Sec. 2. Exceptions.

(a)

No individual who is serving in an office listed in section 1 in an acting capacity, by virtue of so serving, shall act as Commissioner pursuant to this memorandum.

(b)

Notwithstanding the provisions of this memorandum, the President retains discretion, to the extent permitted by the Federal Vacancies Reform Act of 1998, 5 U.S.C. 3345 et seq., to depart from this memorandum in designating an acting Commissioner.

Sec. 3. Prior Memorandum Superseded.

This memorandum supersedes the Presidential Memorandum of May 9, 2002, entitled “Designation of Officers of the Social Security Administration.”

Sec. 4. Publication.

You are authorized and directed to publish this memorandum in the Federal Register.

B

THE WHITE HOUSE,

Washington, April 17, 2006.

[FR Doc. 06-3799

Filed 4-18-06; 10:42 am]

Billing code 4191-02-P